FEDERAL RESERVE SYSTEM

Change in Bank Control Notices; Acquisitions of Shares of Banks or Bank Holding Companies

The notificants listed below have applied under the Change in Bank Control Act (12 U.S.C. 1817(j)) and § 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 10, 2000.

A. Federal Reserve Bank of Chicago (Phillip Jackson, Applications Officer) 230 South LaSalle Street, Chicago, Illinois 60690-1414:

1. Theresa M. Ward, Peoria, Illinois; to acquire voting shares of Mid Illinois Bancorp, Inc., Peoria, Illinois, and thereby indirectly acquire voting shares of South Side Trust and Savings Bank of Peoria, Peoria, Illinois.

B. Federal Reserve Bank of Minneapolis (JoAnne F. Lewellen, Assistant Vice President) 90 Hennepin Avenue, Minneapolis, Minnesota 55480-0291:

1. Gunter Family Limited Partnership, Sour Lake, Texas; to acquire voting shares of Norkitt Bancorp, Inc., Hallock, Minnesota, and thereby indirectly acquire voting shares of Northwestern State Bank of Hallock, Hallock, Minnesota.

Board of Governors of the Federal Reserve System, March 21, 2000.

Robert deV. Frierson,
Associate Secretary of the Board.

[FR Doc. 00-7402 Filed 3-24-00; 8:45 am]

BILLING CODE 6210-01-P